DEPARTMENT OF ENERGY

Federal Energy Regulatory Commission

[Docket No. CP00-405-000]

Columbia Gas Transmission Corporation; Notice of Request Under Blanket Authorization

July 19, 2000.

Take notice that on July 17, 2000, Columbia Gas Transmission Corporation (Columbia), 12801 Fair Lakes Parkway, Fairfax, Virginia 22030-0146, filed a request with the Commission in Docket No. CP00-405-000, pursuant to Section 157.205, 157.211 and/or 157.216(b) of the Commission's Regulations under the Natural Gas Act (NGA) for authorization to replace 10.1 miles of 20-inch pipeline in three segments of its Line KA located in Mingo County, West Virginia authorized in blanket certificate issued in Docket No. CP83-76-000, all as more fully set forth in the request on file with the Commission and open to public inspection. This filing may be viewed on the web at http://www.ferc.fed.us/online/rims.htm (call 202/208-2222 for assistance).

Columbia proposes to replace 10.1 miles of its 20-inch pipeline due to the age and condition of the pipe. The pipeline would be replaced with an approximate like amount and a like size pipeline. Columbia states, that approximately 3.7 miles of the pipeline would be replaced on existing right-of-way and would involve a typical lift and lay procedure. The remaining 6.4 miles would be replaced using a new right-of-way. Columbia states the new right-of-way is required to move the pipeline from its existing location along a creek bank to the ridge top. The pipeline being replaced through the lift and lay procedure would be abandoned by removal, and the remainder of the pipe would be abandoned in place.

Any person or the Commission's staff may, within 45 days after the Commission has issued this notice, file pursuant to Rule 214 of the Commission's Procedural Rules (18 CFR 385.214) a motion to intervene or notice of intervention and pursuant to Section 157.205 of the Regulations under the NGA (18 CFR 157.205) a protest to the request. If no protest is filed within the allowed time, the proposed activity shall be deemed to be authorized effective the day after the time allowed for filing a protest. If a protest is filed and not withdrawn within 30 days after the time allowed for filing a protest, the instant request shall be treated as an application for authorization pursuant to Section 7 of the NGA.

David P. Boergers,
Secretary.

[FR Doc. 00-18620 Filed 7-21-00; 8:45 am]

BILLING CODE 6717-01-M